DEPARTMENT OF JUSTICE

Antitrust Division

Notice Pursuant To the National Cooperative Research And Production Act of 1993—Pistoia Alliance, Inc.

Notice is hereby given that, on April 5, 2021, pursuant to Section 6(a) of the National Cooperative Research and Production Act of 1993, 15 U.S.C. Section 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Syneos Health, Morrisville, NC; Results Works LLC, Plymouth Meeting, PA; Nanome, Inc., San Diego, CA; IOS Press, Amsterdam, THE NETHERLANDS; Joseph Rossetto (individual), Cambridge, UNITED KINGDOM; Ian D. Wilson (individual), London, UNITED KINGDOM; Glenn Barney (individual), Northboro, MA; Illumina, San Diego, CA; Genestack, Cambridge, UNITED KINGDOM; Causaly, London, UNITED KINGDOM; BioSymetrics, Huntington, NY; and ATCC, Manassas, VA have been added as parties to this venture.

Also, MarkLogic Corporation, San Carlos, CA; Johnson Matthey Plc, London, UNITED KINGDOM; Quantori LLC, Cambridge, MA; Innoplexus AG, Eschborn, GERMANY; Arctoris Ltd, Oxford, UNITED KINGDOM; and Monocl Software, Gothenberg, SWEDEN have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on January 11, 2021. A notice was published in the Federal Register pursuant to Section 6(b) of the Act on February 12, 2021 (86 FR 9372).

Suzanne Morris,
Chief, Premerger and Division Statistics, Antitrust Division.

[FR Doc. 2021-09612 Filed 5-5-21; 8:45 am]

BILLING CODE 4410-11-P